POSTAL SERVICE

39 CFR Part 111

Domestic Mail Manual Changes for Bedloaded Bundles of Periodicals

AGENCY: Postal Service.

ACTION: Final rule.

SUMMARY: The Postal Service is eliminating the option in the Domestic Mail Manual that allows mailers to bedload bundles (more than one package strapped together) of Periodicals flat-size mail.

EFFECTIVE DATE: March 31, 2002.

FOR FURTHER INFORMATION CONTACT: Anne Emmerth at (703) 292-3641.

SUPPLEMENTARY INFORMATION: On December 20, 2001, the Postal Service published a proposed rule in the Federal Register (66 FR 65668) soliciting comments on a proposal to delete the standards in the Domestic Mail Manual (DMM) that allow bundles (more than one package strapped together) of Periodicals flat-size mail to be bedloaded instead of placed in sacks or on pallets.

Current DMM M210.5.0 and M220.5.0 allow authorized mailers to place packages of Presorted rate and carrier route rate Periodicals flats directly into a truck or trailer if the packages are secured together into bundles containing a minimum of 20 pounds of mail (instead of sacking or palletizing those packages). Such preparation is optional and requires Postal Service authorization from Business Mailer Support at Headquarters.

Postal Service records indicate that there are no mailers who are preparing mail in this manner.

We received no comments opposing the proposal and one comment in support of eliminating this mail preparation option. The commenter, a large commercial printer, supports the Postal Service's efforts to streamline mail processing operations and reduce overall costs.

Because of the response received, and because bedloaded bundles are generally not cost-efficient for the Postal Service to handle and process, the Postal Service is removing the option to prepare Periodicals flats as bedloaded bundles. Effective March 31, 2002, all Periodicals flats must be prepared in sacks or on pallets.

This change does not apply to mailers who transport packages of Periodicals to destination delivery units under exceptional dispatch.

For the reasons discussed above, the Postal Service hereby adopts the following amendments to the Domestic Mail Manual, which is incorporated by reference in the Code of Federal Regulations (see 39 CFR part 111).

List of Subjects in 39 CFR Part 111

Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Amend the following sections of the Domestic Mail Manual (DMM) as set forth below:

M Mail Preparation and Sortation

M000 General Preparation Standards

M010 Mailpieces

M011 Basic Standards

1.0 Terms and Conditions

* * * * *

1.3 Preparation Instructions

[Delete item z, which defines a “bundle.” Renumber items aa through ac as items z through ab, respectively.]

* * * * *

M013 Optional Endorsement Lines

1.0 Use

1.1 Basic Standards

[Revise 1.1 by deleting the entry for SCF.]

* * * * *

M200 Periodicals (Nonautomation)

M210 Presorted Rates

* * * * *

[Delete section 5.0, Bedloaded Bundles (Flat-Size Pieces). Renumber section 6.0 as 5.0.]

* * * * *

M220 Carrier Route Rates

* * * * *

[Delete section 5.0, Bedloaded Bundles (Flat-Size Pieces). Renumber section 6.0 as 5.0.]

* * * * *

This change will be published in a future issue of the Domestic Mail Manual. An appropriate amendment to 39 CFR 111 to reflect these changes will be published.

Stanley F. Mires,
Chief Counsel, Legislative.

[FR Doc. 02-5657 Filed 3-7-02; 8:45 am]

BILLING CODE 7710-12-U